DEPARTMENT OF HOMELAND SECURITY

[Docket No. DHS-2011-0009]

President's National Security Telecommunications Advisory Committee

AGENCY: National Protection and Programs Directorate, DHS.

ACTION: Committee Management; Notice of an open Federal Advisory Committee Meeting.

SUMMARY: The President's National Security Telecommunications Advisory Committee (NSTAC) will meet on Tuesday, April 19, 2011, via a conference call. The meeting will be open to the public.

DATES: The NSTAC will meet Tuesday, April 19, 2011, from 2 p.m. to 3 p.m. Please note that the meeting may close early if the committee has completed its business.

ADDRESSES: The meeting will be held via a conference call. For access to the conference bridge, contact Ms. Sue Daage at (703) 235-4964 or by e-mail at sue.daage@dhs.gov by 5:00 p.m. April 12, 2011.

To facilitate public participation, we are inviting public comment on the issues to be considered by the committee as listed in the “Summary” section below. Associated briefing materials that will be discussed on the conference call will be available at http://www.ncs.gov/nstac for review as of April 8, 2011. Written comments must be received by the Deputy Manager no later than April 12, 2011, identified by Federal Register Docket Number DHS-2011-0009 and may be submitted by any one of the following methods:

• ;Federal eRulemaking Portal: http://www.regulations.gov. Follow the instructions for submitting written comments.

• E-mail: NSTAC@hq.dhs.gov. Include the docket number in the subject line of the email message.

• Fax: (703) 235-4981.

• Mail: Deputy Manager, National Communications System, National Protection and Programs Directorate, Department of Homeland Security, 245 Murray Lane, Mail Stop 0615, Arlington, VA 20598-0615.

Instructions: All written submissions received must include the words “Department of Homeland Security” and the docket number for this action. Written comments received will be posted without alteration at http://www.regulations.gov, including any personal information provided.

Docket: For access to the docket, background documents or comments received by the NSTAC, go to http://www.regulations.gov.

FOR FURTHER INFORMATION CONTACT: James Madon, NSTAC Designated Federal Officer, Department of Homeland Security, telephone (703) 235-4900.

SUPPLEMENTARY INFORMATION: Notice of this meeting is given under the Federal Advisory Committee Act (FACA), 5 U.S.C. App. (Pub. L. 92-463). The NSTAC advises the President on matters related to national security and emergency preparedness telecommunications policy.

The NSTAC Chair, Mr. James Crowe, will call the meeting to order and provide opening remarks. The NSTAC members will discuss and vote on the Communications Resiliency Report and receive an update on the cloud computing scoping effort.

Meeting Agenda:

I. Opening Remarks and Introductions

II. Discussion and Vote on the Communications Resiliency Report

III. Update on the Cloud Computing Scoping Effort

IV. Closing Remarks

Dated: March 18, 2011.
James Madon,
Designated Federal Officer for the NSTAC.

[FR Doc. 2011-7386 Filed 3-28-11; 8:45 am]

BILLING CODE 9110-09-P